DEPARTMENT OF THE TREASURY

Submission for OMB Review; Comment Request

April 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 29, 2007 to be assured of consideration.

Community Development Financial Institutions Fund (CDFI)

OMB Number: 1559-0027.

Type of Review: Revision.

Form: CDFI 0007.

Title: CDFI Program and NMTC Program Annual Report including CIIS.

Description: This data collection is be used to collect compliance and performance data from certified CDFIs and CDEs and from NACD awardees. This data collection replaces the Annual Survey and parts of the Annual Report (OMB # 1559-0006).

Respondents: Business and other for-profit institutions.

Estimated Total Burden Hours: 14,186 hours.

Clearance Officer: Ashanti McCallum, Community Development Financial Institutions Fund, Department of the Treasury, 601 13th Street, NW., Suite 200 South, Washington, DC 20005, (202) 622-9018.

OMB Reviewer: Alexander T. Hunt, Office of Management and Budget, Room 10235, New Executive Office Building, Washington, DC 20503, (202) 395-7316.

Robert Dahl,
Treasury PRA Clearance Officer.

[FR Doc. E7-8013 Filed 4-25-07; 8:45 am]

BILLING CODE 4810-70-P